DEPARTMENT OF THE INTERIOR

National Park Service

National Register of Historic Places; Notification of Pending Nominations and Related Actions

Nominations for the following properties being considered for listing or related actions in the National Register were received by the National Park Service before August 16, 2008.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 17, 2008.

J. Paul Loether,
Chief, National Register of Historic Places/National Historic Landmarks Program.

ALASKA

Southeast Fairbanks Borough-Census Area

Swan Point Archaeological Site, Address Restricted, Big Delta, 08000929

ARKANSAS

Carroll County

Old U.S. 62, Busch Segment, (Arkansas Highway History and Architecture MPS), Carroll Co. Rds. 107, 109 and 173, Busch, 08000942

Clay County

Sink-Crumb Post No. 72 American Legion Hut, NE., corner of 2nd and Cherry Sts., Knobel, 08000934

Pulaski County

Block Realty-Baker House, 1900 Beechwood, Little Rock, 08000935

Scott County

Waldron Commercial Historic District, S. Main St. between 1st and 5th Sts., Washington St. between 2nd and 3rd Sts., Waldron, 08000943

Sebastian County

Old Huntington Jail, 223 East Broadway St., Huntington, 08000944

Washington County

Highway B-29 Bridge, (Historic Bridges of Arkansas MPS), Co. Rd. 623 over the Illinois River, Prairie Grove, 08000945

Woodruff County

Cotton Plant Commercial Historic District, Main St. roughly between Pine and Ash Sts., Cotton Plant, 08000946

CONNECTICUT

Fairfield County

Noyes House, Address Restricted, New Canaan, 08000948

GUAM

Guam County

Aga Tongan Archaeological Site, Address Restricted, Inarajan, 08000941

ILLINOIS

Cook County

Vassar Swiss Underwear Company Building, 2545 W. Diversey Ave., Chicago, 08000923

MASSACHUSETTS

Hampshire County

West Chesterfield Historic District, 1-70 Ireland St. and unnumbered lots, 620-669 Main Rd., section of Cummington Rd., Chesterfield, 08000950

NEW YORK

Cortland County

Truxton Depot, Railroad St., Truxton, 08000930

Nassau County

House at 226 West Penn Street, 226 West Penn St., Long Beach, 08000932

St. Paul's German Presbyterian Church and Cemetery, 525 Elmont Rd., Elmont, 08000931

New York County

St. Philip's Church, 210-216 West 134th St., New York, 08000933

NORTH CAROLINA

Mecklenburg County

Morning Star Lutheran Church, 12900 Idlewild Rd., Matthews, 08000938

Wake County

Curtis, William A., House, 1415 Poole Rd., Raleigh, 08000939

Lawrence, Calvin Wray, House, (Wake County MPS) 8528 Ragan Rd., Apex, 08000937

OREGON

Multnomah County

USS BLUEBACK (submarine), 1495 Water Ave., located on the E. bank of the Wilamette River, Portland, 08000947

PUERTO RICO

Caguas Municipality

Primera Iglesia Bautista de Caguas, Corner of Ruiz Belvis and Intendenta Ramirez St., Caguas, 08000949

Juana Diaz Municipality

Cueva Lucero, (Prehistoric Rock Art of Puerto Rico MPS) Guayabal Ward, Juana Diaz, 08000936

VIRGINIA

Hampton Independent City

Pasture Point Historic District, Bounded by Hampton River on the E., Bright's Creek on the N., Wine St. on the W., and Syms St. on the S., Hampton, 08000940

WEST VIRGINIA

Berkeley County

Good, William, House and Cellar, 1616 Dry Run Rd., Martinsburg, 08000925

Mt. Pleasant School, Abiding Way, Gerrardstown, 08000928

Schlack, George, House, 212 Speck's Run Rd., Ridgeway, 08000927

Thornburgh-Chenoweth-Pitzer House and Farm, 10930 Apple Harvest Drive, Arden, 08000926

Fayette County

Winebrenner's Crossroads Historic District, Golf Course Rd. at VanClevesville Rd. and Winebrenner Rd., Martinsburg, 08000924

[FR Doc. E8-20201 Filed 8-29-08; 8:45 am]

BILLING CODE 4310-70-P